DEPARTMENT OF ENERGY

Federal Energy Regulatory Commission

Notice of Commissioner and Staff Attendance at National Association of Regulatory Utility Commissioners Summer Committee Meetings

July 20, 2010.

The Federal Energy Regulatory Commission hereby gives notice that members of the Commission and/or Commission staff may attend the following meeting:

Committee on Electricity: Sacramento Convention Center, 1400 J Street, Sacramento, CA 95814.

July 20, 2010 (10:45 a.m.—5 p.m.)

Further information may be found at http://summer.narucmeetings.org/program.cfm.

Kimberly D. Bose,
Secretary.

[FR Doc. 2010-18285 Filed 7-26-10; 8:45 am]

BILLING CODE 6717-01-P